DEPARTMENT OF HOMELAND SECURITY

Federal Emergency Management Agency

[Docket ID FEMA-2011-0029; OMB No. 1660-0095]

Agency Information Collection Activities: Submission for OMB Review; Comment Request, National Flood Insurance Claims Appeals Process

AGENCY: Federal Emergency Management Agency, DHS.

ACTION: Notice.

SUMMARY: The Federal Emergency Management Agency (FEMA) has submitted the following information collection to the Office of Management and Budget (OMB) for review and clearance in accordance with the requirements of the Paperwork Reduction Act of 1995. The submission describes the nature of the information collection, the categories of respondents, the estimated burden (i.e., the time, effort and resources used by respondents to respond) and cost, and includes the actual data collection instruments FEMA will use.

DATES: Comments must be submitted on or before February 23, 2012.

ADDRESSES: Submit written comments on the proposed information collection to the Office of Information and Regulatory Affairs, Office of Management and Budget. Comments should be addressed to the Desk Officer for the Department of Homeland Security, Federal Emergency Management Agency, and sent via electronic mail to oira.submission@omb.eop.gov or faxed to (202) 395-5806.

FOR FURTHER INFORMATION CONTACT: Requests for additional information or copies of the information collection should be made to Director, Records Management Division, 1800 South Bell Street, Arlington, VA 20598-3005, facsimile number (202) 646-3347, or email address FEMA-Information-Collections-Management@dhs.gov.

SUPPLEMENTARY INFORMATION: Title: National Flood Insurance Claims Appeals Process.

Type of Collection: Revision of a currently approved information collection.

OMB Number: 1660-0095.

Abstract: The process requires policyholders to submit a written appeal to FEMA (Mitigation Directorate/Risk Insurance Division), in the form of a signed letter explaining the nature of their claim appeal, names and titles of persons contacted, dates of contact, contact information, and details of the contact relevant to their claim appeal. FEMA will review the documentation submitted by the policyholder, conduct any necessary additional investigation, and advise, both the policyholder and the appropriate flood insurance carrier, of its decision regarding the appeal.

Affected Public: Individuals and Households.

Number of Respondents: 1,055.

Estimated Time per Respondent: State, 5 hours; Local, 5 hours; and Tribal 5 hours.

Estimated Total Annual Burden Hours: 2,110 hours.

Frequency of Response: One Time.

John G. Jenkins, Jr.,
Records Management Division, Office of Management, Federal Emergency Management Agency, Department of Homeland Security.

[FR Doc. 2012-1312 Filed 1-23-12; 8:45 am]

BILLING CODE 9111-11-P